DEPARTMENT OF AGRICULTURE

Natural Resources Conservation Service

[Docket No. NRCS-2017-003]

Notice of Availability of the Mississippi Trustee Implementation Group 2016-2017 Restoration Plan/Environmental Assessment and Finding of No Significant Impact (FONSI)

AGENCY: Natural Resources Conservation Service (NRCS).

ACTION: Notice of availability.

SUMMARY: In accordance with the Oil Pollution Act of 1990 (OPA) and the National Environmental Policy Act (NEPA), the Deepwater Horizon Federal and State natural resource trustee agencies for the Mississippi Trustee Implementation Group (MS TIG) have prepared a final Mississippi Trustee Implementation Group 2016-2017 Restoration Plan/Environmental Assessment (RP/EA). The RP/EA describes the restoration project alternatives considered by the MS TIG to restore and conserve habitat, replenish and protect living coastal and marine resources, and restore water quality. The MS TIG evaluated these alternatives under criteria set forth in the OPA natural resource damage assessment (NRDA) regulations, and also evaluated the environmental consequences of the restoration alternatives in accordance with NEPA. The Federal Trustees of the MS TIG have determined that implementation of the MS TIG 2016-2017 RP/EA is not a major Federal Action significantly affecting the quality of the human environment within the context of NEPA and, therefore, an Environmental Impact Statement will not be prepared. The MS TIG has selected three restoration projects in the RP/EA for implementation in the Mississippi Restoration Area, which are consistent with the Trustees' programmatic alternatives in the Programmatic Damage Assessment and Restoration Plan and Final Programmatic Environmental Impact Statement (PDARP/PEIS).

ADDRESSES: Obtaining Documents: You may download the RP/EA and FONSI at http://www.gulfspillrestoration.noaa.gov. Alternatively, you may request a CD of the Final RP/EA and FONSI (see FOR FURTHER INFORMATION CONTACT). You also may view the document at any of the public facilities listed at http://www.gulfspillrestoration.noaa.gov.

FOR FURTHER INFORMATION CONTACT:

• USDA NRCS—Andrée DuVarney, Andree.DuVarney@wdc.usda.gov

• Mississippi—Tabatha Baum, tbaum@mdeq.ms.gov

SUPPLEMENTARY INFORMATION:

Introduction

On April 20, 2010, the mobile offshore drilling unit Deepwater Horizon, which was being used to drill a well for BP Exploration and Production Inc. (BP), in the Macondo prospect (Mississippi Canyon 252—MC252), exploded, caught fire and subsequently sank in the Gulf of Mexico, resulting in an unprecedented volume of oil and other discharges from the rig and from the wellhead on the seabed. The Deepwater Horizon oil spill is the largest maritime oil spill in United States (U.S.) history, discharging millions of barrels of oil over a period of 87 days. In addition, well over one million gallons of dispersants were applied to the waters of the spill area in an attempt to disperse the spilled oil. An undetermined amount of natural gas also was released to the environment as a result of the spill.

The Deepwater Horizon State and Federal natural resource trustees (DWH Trustees) conducted NRDA for the Deepwater Horizon oil spill under the Oil Pollution Act 1990 (OPA; 33 U.S.C. 2701 et seq.). Pursuant to OPA, Federal and State agencies act as trustees on behalf of the public to assess natural resource injuries and losses and to determine the actions required to compensate the public for those injuries and losses. OPA further instructs the designated trustees to develop and implement a plan for the restoration, rehabilitation, replacement, or acquisition of the equivalent of the injured natural resources under their trusteeship, including the loss of use and services from those resources from the time of injury until the time of restoration to baseline (the resource quality and conditions that would exist if the spill had not occurred) is complete.

The DWH Trustees are:

• U.S. Department of the Interior (DOI), as represented by the National Park Service (NPS) and U.S. Fish and Wildlife Service (USFWS), and Bureau of Land Management (BLM)

• National Oceanic and Atmospheric Administration (NOAA), on behalf of the U.S. Department of Commerce (DOC)

• U.S. Department of Agriculture (USDA)

• U.S. Department of Defense (DOD) ¹

¹ Although a trustee under OPA by virtue of the proximity of its facilities to the Deepwater Horizon oil spill, DOD is not a member of the Trustee Council and does not participate in DWH Trustee decision-making.

• U.S. Environmental Protection Agency (EPA)

• State of Louisiana Coastal Protection and Restoration Authority, Oil Spill Coordinator's Office, Department of Environmental Quality, Department of Wildlife and Fisheries, and Department of Natural Resources

• State of Mississippi Department of Environmental Quality (MDEQ)

• State of Alabama Department of Conservation and Natural Resources and Geological Survey of Alabama

• State of Florida Department of Environmental Protection and Fish and Wildlife Conservation Commission

• The State of Texas Parks and Wildlife Department, Texas General Land Office, and Texas Commission on Environmental Quality

Upon completion of the NRDA, the DWH Trustees reached and finalized a settlement of their natural resource damage claims with BP in a Consent Decree ² approved by the U.S. District Court for the Eastern District of Louisiana. Pursuant to that Consent Decree, restoration projects in Mississippi are now chosen and managed by the MS TIG. The MS TIG is composed of the following Trustees:

² https://www.justice.gov/enrd/file/838066/download.

• MDEQ;

• DOI, as represented by NPS, USFWS, and BLM;

• NOAA, on behalf of DOC;

• USDA; and

• EPA.

This restoration planning activity is proceeding in accordance with the Deepwater Horizon Oil Spill: Final PDARP/PEIS. Information on the Restoration Types: Wetlands, Coastal and Nearshore Habitats, Birds, and Nutrient Reduction (Nonpoint Source), as well as the OPA criteria against which project ideas are being evaluated, can be viewed in the PDARP/PEIS (http://www.gulfspillrestoration.noaa.gov/restoration-planning/gulf-plan), and in the Overview of the PDARP/PEIS (http://www.gulfspillrestoration.noaa.gov/restoration-planning/gulf-plan).

Background

On May 27, 2016, the MS TIG published a notice to invite public input regarding natural resource restoration opportunities in the Mississippi Restoration Area for the 2016-2017 planning years. The notice indicated a focus on the following range of potential restoration types that may have benefits to living coastal and marine resources: Restoration of Wetlands, Coastal and Nearshore Habitats, restoration of water quality through Nutrient Reduction (Nonpoint source); restoration of Birds, and restoration of Oysters. Because there are several ongoing or completed projects benefitting oysters and secondary productivity in the Mississippi Restoration Area, the MS TIG chose not to prioritize the oyster restoration type in this RP/EA.

On October 31, 2016, the MS TIG published a Notice of Initiation for Restoration Plan Drafting in Mississippi, indicating its intent to focus on the following Restoration Types:

• Wetlands, Coastal and Nearshore Habitats;

• Nutrient Reduction (nonpoint source); and

• Birds.

A Notice of Availability of the Draft RP/EA was published in the Federal Register on December 27, 2016 (81 FR 95106-95107). The Draft RP/EA provided the MS TIG's analysis of alternatives that were considered to meet the intended Restoration Types under both OPA and NEPA, and identified three projects that were proposed for implementation. The MS TIG provided the public with a 45-day comment period that ended February 10, 2017, and hosted a Web-based comment submission site to encourage the public to review and comment. The MS TIG also provided a post office box and email address as other means for the public to provide comments.

Comments were received from private citizens, State, and local agencies, and non-governmental organizations. The MS TIG considered the public comments received, which informed the MS TIG's analysis of alternatives in the Final RP/EA. A summary of the public comments received and the MS TIG's responses to those comments are addressed in Section 6 of the FinalRP/EA.

Overview of the RP/EA

The RP/EA is being released in accordance with OPA, NRDA regulations found in the Code of Federal Regulations (CFR) at 15 CFR part 990, and NEPA (42 U.S.C. 4321 et seq.).

In the RP/EA, the MS TIG proposes implementation of the following two preferred alternatives and associated projects within the Wetlands, Coastal and Nearshore Habitat and Birds Restoration Types: (1) Graveline Bay Land Acquisition and Management, and (2) Grand Bay Land Acquisition and Habitat Management. The MS TIG also proposes the following preferred alternative and associated project within the Nutrient Reduction (Nonpoint Source) Restoration Type: Upper Pascagoula River Water Quality Enhancement. The RP/EA presents six restoration alternatives, as well as a no action alternative, evaluated in accordance with OPA and NEPA. The alternatives considered in RP/EA are—

• Restoration Goals.—Restore and Conserve Habitat; and Replenish and Protect Living Coastal and Marine Resources.

○ Alternative A (Preferred): Graveline Bay Land Acquisition and Management

○ Alternative B: Grand Bay Land Acquisition (up to 8,000 acres)

○ Alternative C: Grand Bay Habitat Management (up to 17,500 acres)

○ Alternative D (Preferred): Grand Bay Land Acquisition (up to 8,000 acres) and Habitat Management (up to 17,500 acres); Alternatives B and C combined

○ No Action Alternative

• Restoration Goal.—Restore Water Quality.

○ Alternative A (Preferred): Upper Pascagoula River Water Quality Enhancement

○ Alternative B: Pascagoula River Basin Riparian Buffer Maintenance Plan

○ No Action Alternative

The MS TIG has determined that the selected restoration alternatives and associated projects preferred for implementation are appropriate to partially compensate for the injuries for these restoration types described in PDARP/PEIS. In the RP/EA, the MS TIG presents to the public its plan for providing partial compensation to the public for natural resources and ecological services injured or lost in Mississippi as a result of the Deepwater Horizon Oil Spill. The preferred alternatives and associated projects in the RP/EA are most appropriate for addressing injuries to wetlands, coastal and nearshore habitats, birds, and water quality in Mississippi at this time. Additional restoration planning for Mississippi will continue at a later time.

Administrative Record

The documents included in the Administrative Record can be viewed electronically at http://www.doi.gov/deepwaterhorizon/adminrecord. This Administrative Record is actively maintained and available for public review.

Authority The authority of this action is the Oil Pollution Act of 1990 (33 U.S.C. 2701 et seq.), the implementing NRDA regulations found at 15 CFR part 990, and NEPA (42 U.S.C. 4321 et seq.).

Signed on July 5, 2017, in Washington, DC
James E. Tillman, Sr.,
Acting Associate Chief for Conservation, Natural Resources Conservation Service.

[FR Doc. 2017-14505 Filed 7-10-17; 8:45 am]

BILLING CODE 3410-16-P